DEPARTMENT OF COMMERCE

Foreign-Trade Zones Board

Scope Clarification Request Foreign-Trade Subzone 234B(Loading Equipment and Parts and Components Thereof), LeTourneau, Inc., Longview, Texas

An request for clarification of scope has been submitted to the Foreign-Trade Zones Board (the Board) by LeTourneau, Inc., operator of Foreign-Trade Subzone 234B. A grant of authority for LeTourneau's subzone was issued on February 22, 2005, for certain activity involving loading equipment, components of offshore drilling rigs, log handling equipment, cranes, drive systems, and parts and components thereof. In its original application, LeTourneau had indicated that one of its foreign-sourced inputs would be a driver assembly, imported duty free under subheading 8483.90.5000 of the Harmonized Tariff Schedule of the United States (HTSUS), to be used in the production of loaders.

LeTourneau now seeks clarification whether its scope includes authority to import two subcomponents of the driver assembly and then assemble the drive assembly at LeTourneau's Texas facility (rather than importing the completed driver assembly). The driver-assembly components would be a pre-machined hub (HTSUS 7326.90.8587 - 2.9% duty rate) and a spindle 7326.19.0000 (HTSUS 7326.19.0000 - 2.9% duty rate).

Public comment is invited from interested parties. Submissions shall be addressed to the Board's Executive Secretary at the address below. The closing period for their receipt is July 6, 2006. A copy of the request is available for public inspection at the Office of the Executive Secretary, Foreign-Trade Zones Board, U.S. Department of Commerce, Room 1115, 1401 Constitution Ave. NW., Washington, DC 20230.

Dated: May 31, 2006.
Dennis Puccinelli,
Executive Secretary.

[FR Doc. E6-8761 Filed 6-5-06; 8:45 am]

BILLING CODE 3510-DS-S